DEPARTMENT OF ENERGY

Federal Energy Regulatory Commission

[Project No. 2174-012]

Southern California Edison Company; Notice of Application Ready for Environmental Analysis and Soliciting Comments, Recommendations, Terms and Conditions, and Prescriptions

August 12, 2004.

Take notice that the following hydroelectric application has been filed with the Commission and is available for public inspection.

a. Type of Application: New major license.

b. Project No.: 2174-012.

c. Date filed: March 27, 2003.

d. Applicant: Southern California Edison Company.

e. Name of Project: Portal Hydroelectric Project

f. Location: On Camp 61 Creek and Rancheria Creek, tributaries to the San Joaquin River in Fresno County, California. The project occupies 77.7 acres of public land administered by the Forest Supervisor of the Sierra National Forest.

g. Filed Pursuant to: Federal Power Act 16 U.S.C. 791(a)-825(r).

h. Applicant Contact: R. W. Krieger, Vice President, Power Production, Southern California Edison Company, 300 N. Lone Hill Avenue, San Dimas, California 91773.

i. FERC Contact: Timothy Looney at (202) 502-6096 or timothy.looney@ferc.gov.

j. Deadline for filing comments, recommendations, terms and conditions, and prescriptions: 60 days from the issuance of this notice; reply comments due 105 days from the issuance date of this notice.

All documents (original and eight copies) should be filed with: Magalie R. Salas, Secretary, Federal Energy Regulatory Commission, 888 First Street, NE., Washington, DC 20426.

The Commission's Rules of Practice and Procedure require all intervenors filing documents with the Commission to serve a copy of that document on each person on the official service list for the project. Further, if an intervenor files comments or documents with the Commission relating to the merits of an issue that may affect the responsibilities of a particular resource agency, they must also serve a copy of the document on that resource agency.

Comments, recommendations, terms and conditions, and prescriptions may be filed electronically via the Internet in lieu of paper. The Commission strongly encourages electronic filings. See 18 CFR 385.2001(a)(1)(iii) and the instructions on the Commission's Web site (http://www.ferc.gov) under the “eFiling” link.

k. Status of environmental analysis: This application is ready for environmental analysis at this time.

l. Description of Project: The Portal Project consists of the following existing facilities: (1) A 795-foot-long compacted earth and rock-fill dam; (2) Portal forebay, with a 325 acre-foot useable storage capacity at elevation 7,185 feet; (3) an open channel spillway at the left abutment of the dam, discharging into Camp 61 Creek; (4) an outlet channel consisting of (a) the Adit 2 tunnel and shaft between Portal forebay and Ward Tunnel, (b) Ward Tunnel for a distance of about 32,000 feet from Adit 2 to the base of the surge chamber on the tunnel (Ward Tunnel is licensed as part of FERC Project No. 67), (c) a rock trap immediately downstream of the surge chamber, and (d) a 1,180-foot-long penstock from the rock trap to where it bifurcates just upstream of the Portal powerhouse; (5) a 10.8-MW turbine located in the concrete powerhouse; and (6) a 2.5-mile-long 480 kV transmission line. The Portal Project is one of six projects that are part of a hydroelectric system owned and operated by Southern California Edison Company and known collectively as the Big Creek Hydroelectric System.

m. A copy of the application is available for review at the Commission in the Public Reference Room or may be viewed on the Commission's Web site at http://www.ferc.gov using the “eLibrary” link. Enter the docket number excluding the last three digits in the docket number field to access the document. For assistance, contact FERC Online Support at FERCOnlineSupport@ferc.gov or toll-free at 1 (866) 208-3676, or for TTY, (202) 502-8659. A copy is also available for inspection and reproduction at the address in item h above.

Register online at http://www.ferc.gov/esubscribenow.htm to be notified via e-mail of new filings and issuances related to this or other pending projects. For assistance, contact FERC Online Support. To view upcoming FERC events, go to http://www.ferc.gov and click on “View Entire Calendar.”

Anyone may obtain an extension of time for these deadlines from the Commission only upon a showing of good cause or extraordinary circumstances in accordance with 18 CFR 385.2008.

n. All filings must: (1) Bear in all capital letters the title “COMMENTS”, “REPLY COMMENTS”, “RECOMMENDATIONS,” “TERMS AND CONDITIONS,” or “PRESCRIPTIONS;” (2) set forth in the heading the name of the applicant and the project number of the application to which the filing responds; (3) furnish the name, address, and telephone number of the person submitting the filing; and (4) otherwise comply with the requirements of 18 CFR 385.2001 through 385.2005. All comments, recommendations, terms and conditions or prescriptions must set forth their evidentiary basis and otherwise comply with the requirements of 18 CFR 4.34(b). Agencies may obtain copies of the application directly from the applicant. Each filing must be accompanied by proof of service on all persons listed on the service list prepared by the Commission in this proceeding, in accordance with 18 CFR 4.34(b), and 385.2010.

o. Procedures schedule: The Commission staff proposes to issue a Draft Environmental Assessment (DEA). Staff intends to allow at least 30 days for entities to comment on the DEA before preparing the Final Environmental Assessment (FEA). Commission staff will take into consideration all comments received on the DEA before final action is taken on the license application. The application will be processed according to the following schedule, but revisions to the schedule may be made as appropriate:

Issue REA notice: August 2004.

Issue notice of availability of DEA: January 2005.

Issue notice of availability of FEA: April 2005.

Ready for Commission decision on application: June 2005.

Linda Mitry,
Acting Secretary.

[FR Doc. E4-1847 Filed 8-19-04; 8:45 am]

BILLING CODE 6717-01-P